ENVIRONMENTAL PROTECTION AGENCY

[OAR-2005-0017; FRL-7952-9]

Agency Information Collection Activities: Submission for OMB Review and Approval; Comment Request; NESHAP for Radionuclides, (Renewal) EPA ICR Number 1100.12, OMB Control Number 2060-0191

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on August 31, 2005. Under OMB regulations, the Agency may continue to conduct or sponsor the collection of information while this submission is pending at OMB. This ICR describes the nature of the information collection and its estimated burden and cost.

DATES: Additional comments may be submitted on or before September 15, 2005.

ADDRESSES: Submit your comments, referencing docket ID number OAR-2005-0017, to (1) EPA online using EDOCKET (our preferred method), by email to a-and-r-Docket@epa.gov or by mail to: EPA Docket Center, Environmental Protection Agency, Air and Radiation Docket and Information Center, Mail Code 6102T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Behram Shroff, Office of Air and Radiation, Office of Radiation and Indoor Air, Mail Code 6608J; Environmental Protection Agency, 1200 Pennsylvania Ave., NW., Washington, DC 20460; telephone number: (202) 343-9707; fax number: (202) 343-2305; e-mail address: shroff.behram@epa.gov.

SUPPLEMENTARY INFORMATION: The Federal Register document required under 5 CFR 1320.8(d), soliciting comments on this collection of information, was published on February 15, 2005 (70 FR 7732); no comments were received.

EPA has established a public docket for this ICR under Docket ID Number OAR-2005-0017, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is: (202) 566-1742. An electronic version of the public docket is available through EPA Dockets (EDOCKET) at http://www.epa.gov/edocket. Use EDOCKET to submit or view public comments, access the index listing of the contents of the public docket, or access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Radionuclides (Renewal).

Abstract: On December 15, 1989, pursuant to section 112 of the Clean Air Act as amended in 1977 (42 U.S.C. 1857), the Environmental Protection Agency (EPA) promulgated NESHAPs to control radionuclide emissions from several source categories. The effect of these emissions can have an adverse effect on public health if not limited through pollution control devices. The regulations were published in 54 FR 51653, and are codified at 40 CFR part 61, subparts B, H, I, K, R, T, and W. Subpart T was rescinded on July 15, 1994 and subpart I was rescinded on December 30, 1996. Subpart H does not require an ICR because it covers Federal facilities that are not subject to the Paperwork Reduction Act.

Information collected is used by EPA to ensure that public health continues to be protected from the hazards of airborne radionuclides by compliance with the standards mentioned above. If the information were not collected, it is unlikely that a violation of these standards would be identified and, thus, there would be no corrective action initiated to bring the facilities back into compliance. Compliance is demonstrated through emission testing and/or dose calculation. All facilities are required to calculate, monitor, and maintain their records for 5 years, as required by 40 CFR part 61, § 61.95. The results are also reported to EPA-HQ , EPA regions, and delegated states.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 103 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of selected facilities that emit radionuclides.

Estimated Number of Respondents: 39.

Frequency of Response: Annually.

Estimated Total Annual Hour Burden: 4,032.

Estimated Total Annualized Cost Burden: $520,508, which includes $0 annualized Capital cost, $190,020 for Operations and Maintenance, and $330,488 Respondent Labor costs.

Changes in the Estimates: Some burden hours estimates decreased because the number of facilities affected has increased due to facility closure.

Dated: August 8, 2005.
Oscar Morales,
Director, Collection Strategies Division.

[FR Doc. 05-16201 Filed 8-15-05; 8:45 am]

BILLING CODE 6560-50-P